DEPARTMENT OF THE TREASURY

Office of Thrift Supervision

12 CFR Part 584

[No. 2001-76]

RIN 1550-AB52

Authority for Certain Savings and Loan Holding Companies To Engage in Financial Activities

AGENCY: Office of Thrift Supervision, Treasury.

ACTION: Notice of extension of comment period.

SUMMARY: The Office of Thrift Supervision is extending the comment period for the proposed rule published on November 8, 2001. The proposed rule would clarify what financial activities are authorized for certain savings and loan holding companies after the Gramm-Leach-Bliley Act. This extension will allow interested persons until January 10, 2002 to provide comments on the proposed rule.

DATES: Comments must be received by January 10, 2002.

ADDRESSES:

Mail: Send comments to Regulations Comments, Chief Counsel's Office, Office of Thrift Supervision, 1700 G Street, NW., Washington, DC 20552, Attention Docket No. 2001-69.

Delivery: Hand deliver comments to the Guard's Desk, East Lobby Entrance, 1700 G Street, NW., from 9 a.m. to 4 p.m. on business days, Attention Regulation Comments, Chief Counsel's Office, Docket No. 2001-69.

Facsimile: Send facsimile transmissions to FAX Number (202) 906-6518, Attention Docket No. 2001-69.

E-mail: Send e-mail to “regs.comments@ots.treas.gov”, Attention Docket No. 2001-69, and include your name and telephone number.

Availability of comments: You may access the public comments and an index of comments on the OTS Internet Site at “www.ots.treas.gov”. In addition, you may inspect comments at the Public Reference Room, 1700 G Street, NW., by appointment. To make an appointment for access, call (202) 906-5922, send an e-mail message to public.info@ots.treas.gov, or send a facsimile transmission to (202) 906-7755. (Please identify the materials you would like to inspect, to assist us in serving you.) We schedule appointments on business days between 10 a.m. until 4 p.m. In most cases, appointments will be available the next business day following the date we receive your request.

FOR FURTHER INFORMATION CONTACT: Donna M. Deale, (202) 906-7488, Manager, Holding Company and Affiliate Policy, Office of Supervision Policy; Kevin A. Corcoran, (202) 906-6962, Assistant Chief Counsel for Business Transactions, Business Transactions Division, Office of Chief Counsel; and Sally Warner Watts, (202) 906-7380, Counsel (Banking and Finance), Regulations and Legislation Division, Office of Chief Counsel; Office of Thrift Supervision, 1700 G Street, NW., Washington, DC 20552. If you want to access any of these telephone numbers by text telephone (TTY), you may call the toll-free Federal Information Relay Service at 1-800-877-8339.

SUPPLEMENTARY INFORMATION: On November 8, 2001, OTS published a proposed rule on financial activities that are authorized for certain savings and loan holding companies after the Gramm-Leach-Bliley Act (66 FR 56488). That rule required interested persons to submit their comments by December 10, 2001.

During the comment period, OTS received a written request to extend the comment period until January 10, 2002. The requestor, an association representing financial organizations, sought an extension to permit its member institutions to have time to review the proposal, consider its implications, and develop meaningful comments.

In response to this request, OTS is extending the comment period for the proposed rule until January 10, 2002. This will allow time for the requestor and other interested persons to develop and submit comments on the proposed rule.

OTS encourages e-mail or facsimile submissions to ensure that it receives comments in a timely manner, in light of recent experience with postal service interruptions in the Washington, DC area.

Dated: December 3, 2001.
By the Office of Thrift Supervision.
Ellen Seidman,
Director.

[FR Doc. 01-30306 Filed 12-6-01; 8:45 am]

BILLING CODE 6720-01-U